DEPARTMENT OF HEALTH AND HUMAN SERVICES

Administration for Children and Families

Proposed Information Collection Activity; Comment Request

Proposed Projects

Title: CCDF—Reporting Improper Payments—Instructions for States.

OMB No.: 0970-0323.

Description: The Improper Payments Information Act of 2002 requires Federal agencies to annually report error rate measures. Section 2 of the Improper Payments Information Act provides for estimates and reports of improper payments by Federal agencies. Subpart K of 45 CFR, Part 98 requires preparation and submission of a report of errors occurring in the administration of CCDF grant funds once every three years. The information collected will be used to prepare the annual Agency Financial Report (AFR) and will provide information necessary to offer technical assistance to grantees.

Respondents: State grantees, the District of Columbia, and Puerto Rico.

Annual Burden Estimates
Instrument | Number of respondents | Number of responses per respondent | Average burden hours per response | Total burden hours
OMB #0970-0323 Record Review Worksheet | 17 | 276.38 | 15.43 | 72,497.24
OMB #0970-0323 Data Entry Form | 17 | 276.38 | 0.18 | 845.72
OMB #0970-0323 State Improper Authorizations for Payment Report | 17 | 1 | 639 | 10,863

Estimated Total Annual Burden Hours: 84,205.96

In compliance with the requirements of Section 506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: infocollection@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: February 4, 2010.
Robert Sargis,
Reports Clearance Officer.

[FR Doc. 2010-2761 Filed 2-8-10; 8:45 am]

BILLING CODE 4184-01-P